DEPARTMENT OF ENERGY

Federal Energy Regulatory Commission

Combined Notice of Filings #2

Take notice that the Commission received the following electric rate filings:

Docket Numbers: ER16-325-001.

Applicants: EDF Energy Services, LLC.

Description: Compliance filing: Compliance filing 2016 EDF Energy to be effective 5/16/2016.

Filed Date: 5/13/16.

Accession Number: 20160513-5087.

Comments Due: 5 p.m. ET 6/3/16.

Docket Numbers: ER16-326-001.

Applicants: EDF Industrial Power Services (CA), LLC.

Description: Compliance filing: Compliance filing 2016 to be effective 5/16/2016.

Filed Date: 5/13/16.

Accession Number: 20160513-5085.

Comments Due: 5 p.m. ET 6/3/16.

Docket Numbers: ER16-327-001.

Applicants: EDF Trading North America, LLC.

Description: Compliance filing: Compliance filing 2016 EDF Trading to be effective 5/16/2016.

Filed Date: 5/13/16.

Accession Number: 20160513-5088.

Comments Due: 5 p.m. ET 6/3/16.

Docket Numbers: ER16-1610-001.

Applicants: V3 Commodities Group, LLC.

Description: Tariff Amendment: Amendment to 1 to be effective 5/4/2016.

Filed Date: 5/13/16.

Accession Number: 20160513-5148.

Comments Due: 5 p.m. ET 6/3/16.

Docket Numbers: ER16-1694-000.

Applicants: PJM Interconnection, L.L.C.

Description: Section 205(d) Rate Filing: Original WMPA SA No. 4461, Queue No. W4-027 to be effective 1/5/2015.

Filed Date: 5/13/16.

Accession Number: 20160513-5090.

Comments Due: 5 p.m. ET 6/3/16.

Docket Numbers: ER16-1695-000.

Applicants: Arizona Public Service Company.

Description: Section 205(d) Rate Filing: Rate Schedule Nos. 222, 282 and 283 to be effective 7/13/2016.

Filed Date: 5/13/16.

Accession Number: 20160513-5091.

Comments Due: 5 p.m. ET 6/3/16.

Docket Numbers: ER16-1696-000.

Applicants: PJM Interconnection, L.L.C.

Description: Section 205(d) Rate Filing: Original WMPA No. 4459; Queue No. AB1-116 to be effective 4/29/2016.

Filed Date: 5/13/16.

Accession Number: 20160513-5097.

Comments Due: 5 p.m. ET 6/3/16.

Docket Numbers: ER16-1697-000.

Applicants: Ingenco Holdings, LLC.

Description: Notice of cancellation of market based tariff of Ingenco Holdings, LLC.

Filed Date: 5/13/16.

Accession Number: 20160513-5112.

Comments Due: 5 p.m. ET 6/3/16.

Docket Numbers: ER16-1698-000.

Applicants: Avista Corporation.

Description: Section 205(d) Rate Filing: Avista Rate Schedule T-1054 LT UOF Agreement to be effective 8/1/2016.

Filed Date: 5/13/16.

Accession Number: 20160513-5114.

Comments Due: 5 p.m. ET 6/3/16.

Docket Numbers: ER16-1699-000.

Applicants: Avista Corporation.

Description: Section 205(d) Rate Filing: Avista Rate Schedule T-1056 LT UOF Agreement to be effective 8/1/2016.

Filed Date: 5/13/16.

Accession Number: 20160513-5118.

Comments Due: 5 p.m. ET 6/3/16.

Docket Numbers: ER16-1700-000.

Applicants: ISO New England Inc.

Description: ISO New England Inc. submits First Quarter 2016 Capital Budget Report.

Filed Date: 5/13/16.

Accession Number: 20160513-5129.

Comments Due: 5 p.m. ET 6/3/16.

Docket Numbers: ER16-1701-000.

Applicants: Granite Mountain Solar East, LLC.

Description: Compliance filing: Comp. Filing—Amended MBR Tariff Limits and Exemptions to be effective 7/12/2016.

Filed Date: 5/13/16.

Accession Number: 20160513-5147.

Comments Due: 5 p.m. ET 6/3/16.

Docket Numbers: ER16-1702-000.

Applicants: Granite Mountain Solar West, LLC.

Description: Compliance filing: Comp. Filing—Amendment to MBR Tariff Limits and Exemptions to be effective 7/13/2016.

Filed Date: 5/13/16.

Accession Number: 20160513-5179.

Comments Due: 5 p.m. ET 6/3/16.

Docket Numbers: ER16-1703-000.

Applicants: Macquarie Energy LLC.

Description: Section 205(d) Rate Filing: Category 2 Notice re Central Region to be effective 5/14/2016.

Filed Date: 5/13/16.

Accession Number: 20160513-5200.

Comments Due: 5 p.m. ET 6/3/16.

Take notice that the Commission received the following qualifying facility filings:

Docket Numbers: QF16-823-000.

Applicants: Gloversville-Johnstown Joint Wastewater.

Description: Form 556 of Gloversville-Johnstown Joint Wastewater Facility.

Filed Date: 5/12/16.

Accession Number: 20160512-5264.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2016.
Nathaniel J. Davis, Sr.,
Deputy Secretary.

[FR Doc. 2016-11887 Filed 5-19-16; 8:45 am]

BILLING CODE 6717-01-P